DEPARTMENT OF COMMERCE

National Oceanic and Atmospheric Administration

[I.D. 091200C]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Scallop Oversight Committee in October, 2000. Recommendations from the committee will be brought to the full Council for formal consideration and action, if appropriate.

DATES: The meeting will held on Wednesday, October 4, 2000, at 9:30 a.m.

ADDRESSES:

The meeting will be held at the Holiday Inn, 225 McClellan Highway, Boston, MA 02128; telephone: (617) 569-5250.

FOR FURTHER INFORMATION CONTACT: Paul J. Howard, Executive Director, New England Fishery Management Council (978) 465-0492.

SUPPLEMENTARY INFORMATION: The Scallop Committee will further define and specify management alternatives for Final Framework Adjustment 14 to the Scallop Fishery Management Plan. The framework adjustment will change the management specifications for the 2000 fishing year (at the September 27th Council meeting, the Council will identify the initial framework management alternatives). After analysis by the Plan Development Team, a final alternative will be approved by the full Council at it’s November 14-16, 2000 meeting. Other, long-range management issues, including research priorities for 2001, may also be discussed.

Framework Adjustment 14 is an annual adjustment to the management measures and regulations that will govern the Atlantic sea scallop fishery between March 1, 2001 and February 28, 2002. The adjustment will focus on changing the annual days-at-sea allocation for full-time, part-time, and occasional limited access scallop vessels, management options for fishing in the Hudson Canyon and VA/NC Areas, new closures to protect small scallops, and prohibiting the possession of shell stock inshore of the days-at-sea monitoring line. Other management adjustments may arise during the initial framework meeting and will be discussed at this meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Paul J. Howard (see ADDRESSES) at least 5 days prior to the meeting dates.

Dated: September 12, 2000.
Bruce C. Morehead,
Acting Director, Office of Sustainable Fisheries, National Marine Fisheries Service.

[FR Doc. 00-23922 Filed 9-15-00; 8:45 am]

BILLING CODE 3510-22-S